DEPARTMENT OF AGRICULTURE

[Docket No: ERS-2026-0001]

Request for Information on Opportunities, Challenges, and Emerging Areas in Statistical Data, Analysis, and Research at the U.S. Department of Agriculture

AGENCY: Economic Research Service, National Agricultural Statistical Service, and Office of the Chief of Economist, U.S. Department of Agriculture.

ACTION: Request for information.

SUMMARY: The U.S. Department of Agriculture (USDA) requests information on opportunities, challenges, and emerging areas in statistical data, analysis, and research produced by the Economic Research Service (ERS), the National Agricultural Statistics Service (NASS), and the Office of the Chief Economist's World Agricultural Outlook Board (OCE-WAOB). This information will help inform USDA as we consider future program direction, new initiatives, and potential funding opportunities.

DATES: All comments must be received on or before April 9, 2026.

ADDRESSES: USDA invites the submission of the requested information through one of the following methods:

• Federal eRulemaking Portal (preferred method): Go to http://www.regulations.gov. Follow the online instructions for submitting comments.

• Mail: Send written comments to Economic Research Service, 1400 Independence Avenue SW, Mail Stop 1800, Washington, DC 20250-1800, Attention: Nisha Murray.

All items submitted by mail or electronic mail must include the Agency name and docket number ERS-2026-0001. All comments submitted in response to this request for information will be included in the record and will be made available to the public. Please be advised that the substance of the comments and the identity of the individuals or entities submitting the comments will be subject to public disclosure. All responses will become part of the public record and will not be held confidential. USDA will make the comments publicly available via http://www.regulations.gov.

FOR FURTHER INFORMATION CONTACT: Michele Esch, ERS Chief of Staff (michele.esch@usda.gov; 301-367-9891), LaKeya Jones Smith, NASS Chief of Staff (lakeya.jones@usda.gov; 202-720-2707), or Meghan Radtke, OCE Operations Manager (meghan.radtke@usda.gov).

SUPPLEMENTARY INFORMATION:

Background

USDA's mission to provide accurate, timely, and relevant economic and statistical information is carried out primarily through the Economic Research Service (ERS), the National Agricultural Statistics Service (NASS), and the Office of the Chief Economist's World Agricultural Outlook Board (OCE-WAOB). ERS and NASS are designated by OMB as Recognized Statistical Agencies and Units, responsible for producing relevant, timely, credible, accurate, and objective statistical data under established quality and transparency standards. NASS reports include monthly crop production, July cattle, Quarterly Hogs and Pigs, and more.¹ ERS produces reports and briefings by subject matter experts that provide context for informing policy discussions. OCE-WAOB oversees the U.S. Department of Agriculture's production of the World Agricultural Supply and Demand Estimates (WASDE) report.

¹ The federal statistical system (FSS) is a decentralized institution comprising more than 100 agencies, organizational units, and programs across the U.S. government that engage in statistical activities. Sixteen recognized statistical agencies and units (RSAUs) represent the largest proportion of the system. The RSAUs are entities whose principal missions are conducting activities related to the collection, compilation, processing, analysis, and dissemination of data for statistical purposes. 44 U.S. Code § 3563.

Together, these agencies produce a broad portfolio of products ranging from high-frequency crop and livestock statistics, market intelligence assessing supply and demand for major agricultural commodities, situation and outlook reports, and farm income forecasts to data products, interactive dashboards, and data visualizations. These resources are widely used by farmers and ranchers, agribusinesses, researchers, industry organizations, local and federal agencies, and international partners. The scale and diversity of these products vary in scope, geographic resolution, delivery method, and frequency as USDA works to balance informational needs within budgetary and technical constraints. To help inform our decision-making, we seek information on how well we are meeting the needs of users.

For details on the current roles and responsibilities of these agencies and office, refer to their respective websites ERS https://ers.usda.gov/, NASS https://www.nass.usda.gov/, and OCE-WAOB https://www.usda.gov/about-usda/general-information/staff-offices/office-chief-economist/world-agricultural-outlook-board. Specific information on USDA's statistical products, data, and analysis for which specific feedback is requested can be found on the following sites:

• NASS Guide to Products and Services: https://www.nass.usda.gov/Publications/2025-Guide-to-Products-and-Services.pdf including methodology and quality measures: https://www.nass.usda.gov/Publications/Methodology_and_Data_Quality/index.php.

• ERS Products:

○ Data Products and Methodology: https://www.ers.usda.gov/data-products.

○ Research Reports: https://www.ers.usda.gov/publications?series=research-reports.

○ Outlook Reports: https://www.ers.usda.gov/publications?series=outlook-reports.

• OCE-WAOB: World Agricultural Supply and Demand Estimates (WASDE): https://www.usda.gov/about-usda/general-information/staff-offices/office-chief-economist/commodity-markets/wasde-report including methodology documentation: https://www.usda.gov/oce/commodity-markets/wasde/faqs.

Questions

USDA is issuing this request for information (RFI) to ensure USDA's economic and statistical products continue to meet the evolving needs of users. Respondents are encouraged to identify their field (e.g., research, agricultural industry, farm operator) and area of interest (e.g., statistics, data, forecasting, commodity markets), and provide relevant information regarding the USDA economic and statistical programs. Respondents need not reply to all questions listed. Please ensure that you identify your answers as responses to a specific question(s).

Data Products and Data Sets

The following questions relate to official agricultural statistics produced through data collected from surveys, censuses, and other sources published by ERS and NASS.

1. Which NASS or ERS data (e.g., releases, reports, datasets) are most valuable to your work, and why?

2. What gaps exist in the agricultural data produced?

3. What new topic areas should USDA prioritize for data products?

4. How often should data and information be released or updated (e.g., annually, quarterly)?

5. What geographic granularity (e.g., national, state, county) for data best supports your work?

6. Are there NASS or ERS data products, data sets, and other relevant information that are duplicative, outdated, or underutilized? What improvements, changes or consolidations could be made (e.g., more timely, different data collection methods)?

7. Do you use non-USDA data to supplement data elements or variables of interest that are missing from NASS or ERS products? If yes, please specify which data sets you supplement and why. Do you use non-USDA data as a proxy for data elements that are missing from NASS or ERS products? If yes, please specify why you are using non-USDA data in conjunction with USDA data.

8. How could ERS and OCE-WAOB improve transparency about data sources, assumptions, or models used in data products?

Economic Research, Outlook, and Forecasts

The following questions relate to the economic research and outlook reports produced by ERS and the WASDE coordinated by OCE-WAOB.

9. Which ERS or OCE-WAOB research or analytical products (e.g., farm income, situation and outlook reports, ERS research reports, WASDE) are most valuable to your work, and how do you use them?

10. What emerging policy or economic issues should be addressed in ERS or OCE-WAOB economic analysis, outlook, and forecasts?

11. When using ERS or OCE-WAOB forecasts or research, are you more likely to use raw data files, written analysis, or both? If you use one product type more than another, why?

12. How can ERS and OCE-WAOB better tailor the content to your needs?

13. How could ERS and OCE-WAOB improve transparency of the data sources, assumptions, methodology, or models used in economic forecasts?

Access, Tools, and Outreach

The following questions apply to all the products developed by ERS, NASS, and OCE-WAOB.

14. How do you currently access ERS, NASS, or OCE-WAOB data (e.g., Quick Stats, website, Application Programming Interfaces)? What challenges do you face when accessing data or research? What improvements would you suggest?

15. What tools or formats would improve usability of ERS, NASS, and OCE-WAOB products (e.g., dashboards, machine-readable files, visualizations, downloadable tables)?

16. Are there groups (e.g., beginning farmers, small businesses) that face challenges using ERS, NASS, and OCE-WAOB data and analytical products? How can we improve access?

17. USDA produces a number of products associated with outlook and research output intended to increase the digestibility or access to statistical and research products. How useful are these associated products? These include NASS' QuickStats tool for accessing data, ERS products like the ERS Farm Income and Wealth Statistics, Agricultural Resource Management Survey (ARMS) data dissemination tool, Amber Waves or Charts of Note, WASDE data visualization, or other documents? What formats or presentation styles work best for your intended purpose?

18. How do you assess the credibility and relevance of ERS, NASS, and OCE-WAOB data and analytical products compared to other providers (e.g., land-grant or private universities, commercial vendors)?

19. Are there other data or analytical products or reports produced by other parts of USDA that you consider highly valuable, duplicative, or redundant? Are there any improvements that you would suggest to these data or analytical products or reports produced by other parts of USDA?

20. What is the best way for ERS, NASS, and OCE-WAOB to receive ongoing feedback on its data and analysis? Are there groups or forums we should engage with more regularly?

Responses to this RFI are voluntary. Each individual or institution is requested to submit only one response. Responses should include the name of the person(s) or organization(s) filing the response. Please identify your answers by referring to a specific question number within the response. In order to best serve consumers of ERS, NASS, or OCE-WAOB data, please be sure to specify which program you would wish to provide feedback on and when discussing data, please be sure to indicate which data set you are referring to. This information is critical to improving the quality of information and data produced by these programs.

Responses to this RFI may be posted without change online. No proprietary information, copyrighted information, or personally identifiable information (PII) should be submitted in response to this RFI.

This RFI is issued solely for information and planning purposes and does not constitute a solicitation. There will be no response to individual submissions. Please note that the United States Government will not pay for response preparation, or for the use of any information contained in a response. If submitting a response by mail, please allow sufficient time for mail processing.

Scott H. Hutchins,
Under Secretary, Research, Education, and Economics Mission Area.
Justin R. Benavidez,
Chief Economist, Office of the Chief Economist.

[FR Doc. 2026-03497 Filed 2-20-26; 8:45 am]

BILLING CODE 3410-18-P